DEPARTMENT OF HOMELAND SECURITY

Office of the Secretary

[Docket No. DHS-2005-0031]

Homeland Security Advisory Council

AGENCY: Office of the Secretary, DHS.

ACTION: Notice of Federal Advisory Committee meeting.

SUMMARY: The Homeland Security Advisory Council (HSAC) will hold a teleconference for the purposes of receiving reports and recommendations from an HSAC working group and task force, and holding member deliberations. The HSAC will receive reports from the HSAC Working Group on Intelligence and Information Sharing, chaired by Governor Mitt Romney, Governor of Massachusetts; and the HSAC Task Force on the National Strategy for Maritime Security HSPD-13/NSPD-41, chaired by Frank J. Cilluffo, Associate Vice President for Homeland Security, George Washington University. The Romney Working Group will report on the topic of State Fusion Centers, and the Cilluffo Task Force will report on the implementation plan for the National Strategy for Maritime Security. Following each report, the HSAC will hold deliberations and discussions among HSAC members.

DATES: This meeting will be held via teleconference on Thursday, April 28, 2005, and will begin at 3:05 p.m. e.d.t.

ADDRESSES: If you desire to submit comments, they must be submitted by April 22, 2005. Comments must be identified by DHS-2005-0031 and may be submitted by one of the following methods:

• EPA Federal Partner EDOCKET Web Site: http://www.epa.gov/feddocket. Follow instructions for submitting comments on the Web site.

• Federal eRulemaking Portal: http://www.regulations.gov. Follow the instructions for submitting comments.

• E-mail: HSAC@dhs.gov. Include docket number in the subject line of the message.

• Fax: (202) 772-9718.

• Mail: Katie Knapp, Homeland Security Advisory Council, Department of Homeland Security, Washington, DC 20528.

Docket: For access to the docket to read background documents or comments received, go to http://www.epa.gov/feddocket. You may also access the Federal eRulemaking Portal at http://www.regulations.gov.

FOR FURTHER INFORMATION CONTACT: For additional information concerning the meeting, please contact Mike Miron or Katie Knapp of the HSAC Executive Staff Member via e-mail at HSAC@dhs.gov, or via phone at 202-692-4283.

SUPPLEMENTARY INFORMATION: Public Attendance: Members of the public may register to dial in and listen to this teleconference by contacting the Department officials listed above no later than 5 p.m., e.d.t., Friday, April 22, 2005 via e-mail at HSAC@dhs.gov, or via phone at (202) 692-4283. Upon registration, instructions for the dial in will be provided. Persons with hearing disabilities who desire to obtain a transcript of the teleconference must request that the Department produce and provide a verbatim transcript based upon special needs due to a physical impairment at the time of registration. Absent any such request, the Department may not produce a verbatim transcript of the meeting.

Dated: April 8, 2005.
Katie Knapp,
Special Assistant, Homeland Security Advisory Council.

[FR Doc. 05-7403 Filed 4-12-05; 8:45 am]

BILLING CODE 4410-10-P